COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 8/13/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 5/11/2012 (77 FR 27737-27738) and 5/18/2012 (77 FR 29596), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSNs:

MR 1169—Set, Bowl and Lid, Blue, 4 Piece.

MR 1168—Carrier, Cake and Cupcake, Collapsible.

NPA: Industries for the Blind, Inc., West Allis, WI.

Contracting Activity: Defense Commissary Agency, Fort Lee, VA.

Coverage: C-List for the requirements of military commissaries and exchanges as aggregated by the Defense Commissary Agency.

Services

Service Type/Location: Custodial and Grounds Services, Armed Forces Medical Examiner System, Building 115, 115 Purple Heart Drive, Dover AFB, DE.

NPA: The Chimes, Inc., Baltimore, MD.

Contracting Activity: Dept of the Army, W4PZ USA MED RSCH ACQUIS ACT, Fort Detrick, MD.

Service Type/Location: Document Destruction Service, Social Security Administration, Office of Disability Adjudication and Review (ODAR), (offsite: 9104 Red Branch Road, Columbia, MD), One Skyline Tower, 5107 Leesburg Pike, Falls Church, VA.

NPA: Athelas Institute, Inc., Columbia, MD.

Contracting Activity: Social Security Administration, HDQTRS-Office Of Acquisition & Grants, Baltimore, MD.

Service Type/Location: Grounds Maintenance, Gallagher Memorial, U.S. Army Reserve Center (USARC), 1300 West Brown Road, Las Cruces, NM.

NPA: Let's Go To Work, El Paso, TX.

Contracting Activity: Dept of the Army, W6QM MICC-Ft Hunter (RC-W), Presidio of Monterey, CA.

Service Type/Location: Janitorial Service, U.S. Army Reserve Center (USARC), Building 6981, 11601 Montana, El Paso, TX.

NPA: Let's Go To Work, El Paso, TX.

Contracting Activity: Dept of the Army, W6QM MICC-Ft Hunter (RC-W), Presidio of Monterey, CA.

Barry S. Lineback,
Director, Business Operations.

[FR Doc. 2012-17095 Filed 7-12-12; 8:45 am]

BILLING CODE 6353-01-P